ENVIRONMENTAL PROTECTION AGENCY

[ER-FRL-8991-8]

Environmental Impact Statements; Notice of Availability

Responsible Agency: Office of Federal Activities, General Information (202) 564-1399 or http://www.epa.gov/compliance/nepa/.

Weekly Receipt of Environmental Impact Statements

Filed 07/19/2010 Through 07/23/2010 Pursuant to 40 CFR 1506.9

EIS No. 20100273, Final EIS, BLM, UT, West Tavaputs Plateau Natural Gas Full Field Development Plan, Develop the Natural Gas Resource on Leased and Unleased Lands, Carbon County, UT, Wait Period Ends: 08/30/2010, Contact: Tyler Ashcraft 435-636-3600.

EIS No. 20100274, Draft EIS, BLM, UT, Kerr-McGee Oil & Gas Onshore LP (KMG), Proposes to Conduit Infill Drilling to Develop the Hydrocarbon Resources Oil and Gas Leases, Application for Permit to Drill and Approval Right-of-Way Grants, Uintah County, UT, Comment Period Ends: 09/13/2010, Contact: Stephanie Howard 435-781-4400.

EIS No. 20100275, Final EIS, BLM, WY, Wright Area Coal Lease Project, Applications for Leasing Six Tracts of Federal Coal Reserves Adjacent to the Black Thunder, Jacob Ranch, and North Antelope Rochelle Mines, Wyoming Powder River Basin, Campbell County, WY, Wait Period Ends: 08/30/2010, Contact: Sarah Bucklin 307-261-7541.

EIS No. 20100276, Final EIS, USFS, ID, Clear Prong Project, To Implement Silvicultural Activities, Including Thinning of Sub-Merchantable Trees, Prescribed Fires and Aspen Enhancement on 2,190 Acres, Bois National Forest, Cascade Ranger District, Valley County, ID, Wait Period Ends: 08/30/2010, Contact: Keith Dimmett 208-382-7400.

EIS No. 20100277, Final EIS, FERC, 00, Apex Expansion Project, Proposal to Expand its Natural Gas Pipeline System, WY, UT and NV, Wait Period Ends: 08/30/2010, Contact: Mary O'Driscoll 1-866-208-3372.

EIS No. 20100278, Final EIS, BLM, OR, Vegetation Treatments Using Herbicides on Bureau of Land Management (BLM) Lands in Oregon, Implementation, OR, Wait Period Ends: 08/30/2010, Contact: Todd Thompson 503-808-6326.

EIS No. 20100279, Final EIS, USAF, 00, Southwest Idaho Ecogroup Land and Resource Management Plan, Updated Information to Reanalyze the Effects of Current and Proposed Management on Rock Mountain Bighorn Sheep Viability in the Payette National Forest 2003 FEIS, Boise National Forest, Payette National Forest and Sawtooth National Forest, Forest Plan Revision, Implementation, Several Counties, ID; Malhaur County, OR and Box Elder County, UT, Wait Period Ends: 08/30/2010, Contact: Sue Dixon 208-634-0796.

EIS No. 20100280, Draft EIS, STB, PA, R.J. Corman Railroad/Pennsylvania Lines Project, Construction, Operation, and Reactivation to Approximately 20 Miles of Railline in Clearfield and Centre Counties, PA, Comment Period Ends: 09/28/2010, Contact: Danielle Gosselin 202-245-0300.

EIS No. 20100281, Draft EIS, FHWA, IN, I-69 Evansville to Indianapolis Tier 2 Section 4 Project, From U.S. 231 (Crane NSWC) to IN-37 South of Bloomington in Section 4, Greene and Monroe Counties, IN, Comment Period Ends: 09/28/2010, Contact: Janice Osadczuk 317-226-7486.

EIS No. 20100282, Final EIS, WAPA, SD, South Dakota PrairieWinds Project, Proposes to Construct, Own, Operate, and Maintain a 151.5 megawatt (MW) Nameplate Capacity Wind-Powered Generation Facility, Aurora, Brule, and Jerauld, Tripp Counties, SD, Wait Period Ends: 08/30/2010, Contact: Liana Reilly 800-336-7288.

Dated: July 27, 2010.
Ken Mittelholtz,
Deputy Director, NEPA Compliance Division, Office of Federal Activities.

[FR Doc. 2010-18802 Filed 7-29-10; 8:45 am]

BILLING CODE 6560-50-P